FEDERAL ACCOUNTING STANDARDS ADVISORY BOARD

Notice of Public Meeting To Discuss the Proposed Draft Staff Implementation Guidance 64.1: Guidance for Implementation of SFFAS 64, Management's Discussion and Analysis

AGENCY: Federal Accounting Standards Advisory Board.

ACTION: Notice.

SUMMARY: Notice is hereby given that the staff of the Federal Accounting Standards Advisory Board (FASAB) will convene a public meeting on September 4, 2025, from 9:30 a.m. until 11:30 a.m. to discuss proposed draft Staff Implementation Guidance 64.1: Guidance for Implementation of SFFAS 64, Management's Discussion and Analysis, Rescinding and Replacing SFFAS 15. The meeting will be held in room 5N30 at the Government Accountability Office, located at 441 G Street NW, Washington, DC 20548 and virtually by Zoom. Those interested in attending should contact Ms. Robin Gilliam, Assistant Director, at mda@fasab.gov no later than August 28, 2025. Any interested person may attend the public meeting as an observer.

FOR FURTHER INFORMATION CONTACT: Ms. Monica R. Valentine, Executive Director, 441 G Street NW, Washington, DC 20548, or call (202) 512-7350.

Authority: 31 U.S.C. 3511(d); Federal Advisory Committee Act, 5 U.S.C. 1001-1014)

Dated: August 5, 2025.
Monica R. Valentine,
Executive Director.

[FR Doc. 2025-15027 Filed 8-6-25; 8:45 am]

BILLING CODE 1610-02-P